DEPARTMENT OF TRANSPORTATION

Surface Transportation Board

[STB Docket No. AB-1043 (Sub-No. 1)]

Montreal, Maine & Atlantic Railway, Ltd.—Discontinuance of Service and Abandonment—in Aroostook and Penobscot Counties, ME

April 9, 2010.

AGENCY: Surface Transportation Board.

ACTION: Notice of Public Hearing.

SUMMARY: The Surface Transportation will hold a public hearing concerning the abandonment application filed in this docket. The purpose of the hearing will be to allow interested persons to comment on the application.

DATE/LOCATION: The public hearing will take place on May 10, 2010, beginning at 9 a.m., at the District Court House, 27 Riverside Drive, Presque Isle, ME 04769. Any person wishing to speak at the hearing must file with the Board a written notice of intent to participate, identifying (1) The party represented, (2) the proposed speaker, and (3) the number of minutes requested. Notices of intent to participate should be filed as soon as possible, but not later than April 19, 2010. Following receipt of notices of intent, the Board will release a schedule of speakers for the hearing.

The courthouse is open Monday through Friday from 8 in the morning. All visitors must present a valid form of government-issued photo identification and pass screening before being granted access into the building. Cameras are not permitted in the building. Visitors will have access to public areas only.

ADDRESSES: Notices of intent to participate in the hearing may be submitted either via the Board's e-filing format or in the traditional paper format. Any person using e-filing should attach a document and otherwise comply with the Board's http://www.stb.dot.gov website, at the “E-FILING” link. Any person submitting a filing in the traditional paper format should send the filing to: Surface Transportation Board, Attn: STB Docket No. AB-1043 (Sub-No. 1), 395 E Street, SW., Washington, DC 20423-0001.

FOR FURTHER INFORMATION CONTACT: Joseph Dettmar, (202) 245-0395. (Assistance for the hearing impaired is available through the Federal Information Relay Service (FIRS) at (800) 877-8339).

SUPPLEMENTARY INFORMATION: On February 25, 2010, Montreal, Maine & Atlantic Railway, Ltd. (MMA) filed an application under 49 U.S.C. 10903 for authority to abandon and discontinue service over approximately 233 miles of line in Aroostook and Penobscot Counties, ME.¹ In a decision served on March 12, 2010, the Board granted requests to hold a public hearing.

¹ MMA seeks authority to abandon and discontinue service over: (1) The Madawaska Subdivision, consisting of approximately 151 miles of line between milepost 109 near Millinocket and milepost 260 near Madawaska in Penobscot and Aroostook Counties; (2) the Presque Isle Subdivision, consisting of approximately 25.3 miles of line between milepost 0.0 near Squa Pan and milepost 25.3 near Presque Isle in Aroostook County; (3) the Fort Fairfield Subdivision, consisting of approximately 10 miles of line between milepost 0.0 near Presque Isle and milepost 10.0 near Easton in Aroostook County; (4) the Limestone Subdivision, consisting of approximately 29.85 miles of line between milepost 0.0 near Presque Isle and milepost 29.85 near Limestone in Aroostook County; and (5) the Houlton Subdivision, consisting of approximately 16.9 miles of line between milepost 0.0 near Oakfield and milepost 16.9 near Houlton in Aroostook County.

At the hearing, the Board will hear testimony on the abandonment application. Speakers at the hearing may, but are not required to, bring written copies of their testimony to the hearing and offer those statements for the record in the proceeding. Speakers who wish to enhance their presentation by using projector-adaptable visual displays and/or handouts may do so. Any projector-adaptable visual displays must be submitted to the Board in electronic form by May 3, 2010. Interested persons should remember that they also can submit written comments on the application by April 21, 2010. Live audio/video streaming of the hearing will not be available.

This action will not significantly affect either the quality of the human environment or the conservation of energy resources.

Decided: April 9, 2010.
By the Board, Rachel D. Campbell, Director, Office of Proceedings.
Jeffrey Herzig,
Clearance Clerk.

[FR Doc. 2010-8564 Filed 4-13-10; 8:45 am]

BILLING CODE 4915-01-P